FEDERAL RETIREMENT THRIFT INVESTMENT BOARD

Sunshine Act; Notice of Meeting

TIME AND DATE: 10:00 a.m. (TELEPHONIC Eastern Time) June 24, 2013.

PLACE: 10th Floor Board Meeting Room, 77 K Street, NE., Washington, DC 20002.

STATUS: Parts will be open to the public and parts closed to the public.

MATTERS TO BE CONSIDERED:

Parts Open to the Public

1. Approval of the Minutes of the May 20, 2013 Board Member Meeting

2. Thrift Savings Plan Activity Reports by the Executive Director

a. Monthly Participant Activity Report

b. Monthly Investment Policy Report

c. Legislative Report

3. Office of Technology Services Report

4. Office of Financial Management Report

5. FY 2013-2017 Strategic Plan Update

Parts Closed to the Public

1. Procurement

2. Security

CONTACT PERSON FOR MORE INFORMATION: Kimberly Weaver, Director, Office of External Affairs, (202) 942-1640.

Dated: June 13, 2013.
James B. Petri,
Secretary, Federal Retirement Thrift Investment Board.

[FR Doc. 2013-14524 Filed 6-14-13; 11:15 am]

BILLING CODE 6760-01-P